DEPARTMENT OF COMMERCE

International Trade Administration

[A-570-826]

Paper Clips From the People's Republic of China: Final Results of the Expedited Fifth Sunset Review of the Antidumping Duty Order

AGENCY: Enforcement and Compliance, International Trade Administration, Department of Commerce.

SUMMARY: As a result of this expedited sunset review, the U.S. Department of Commerce (Commerce) finds that revocation of the antidumping duty (AD) order on paper clips from the People's Republic of China (China) would be likely to lead to continuation or recurrence of dumping at the levels indicated in the “Final Results of Sunset Review” section of this notice.

DATES: Applicable December 28, 2022.

FOR FURTHER INFORMATION CONTACT: Caroline Carroll or Thomas Martin, AD/CVD Operations, Office IV, Enforcement and Compliance, International Trade Administration, U.S. Department of Commerce, 1401 Constitution Avenue NW, Washington, DC 20230; telephone: (202) 482-4948 and (202) 482-3936 respectively.

SUPPLEMENTARY INFORMATION:

Background

On September 1, 2022, Commerce published the notice of initiation of the fifth sunset review of the Order,¹ pursuant to section 751(c)(2) of the Tariff Act of 1930, as amended (the Act).² Commerce received notices of intent to participate from domestic interested parties ³ within the deadline specified in 19 CFR 351.218(d)(1)(i), after the date of publication of the Initiation Notice.⁴ The domestic interested parties claimed interested party status under section 771(9)(C) of the Act, as manufacturers of a domestic like product in the United States.

¹ See Antidumping Duty Order: Certain Paper Clips from the People's Republic of China, 59 FR 60606 (November 25, 1994) (Order).

² See Initiation of Five-Year (Sunset) Reviews, 87 FR 53727 (September 1, 2022).

³ The domestic interested parties are ACCO Brands USA LLC (ACCO) and Victor Technology LLC (Victor Technology).

⁴ See Victor Technology's Letter, “Paper Clips from the People's Republic of China: Five-Year Review of Antidumping Duty Order (5th Sunset Review), Case No. A-570-826; Victor Technology, LLC's Notice of Intent to Participate,” dated September 13, 2022; see also ACCO's Letter, “Paper Clips from the People's Republic of China: Five-Year Review of Antidumping Duty Order (5th Review), Case No. A-570-826; ACCO Brands USA LLC's Notice of Intent to Participate,” dated September 15, 2022.

Commerce received a complete substantive response from the domestic interested parties within the 30-day deadline specified in 19 CFR 351.218(d)(3)(i).⁵ We did not receive a substantive response from any other interested party in these proceedings.

⁵ See Domestic Interested Parties' Letter, “Paper Clips from the People's Republic of China: Five-Year Review of Antidumping Duty Order (5th Sunset Review), Case No. A-570-826; Substantive Response of Domestic Producers,” dated October 3, 2022.

On October 25, 2022, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews Initiated on September 1, 2022,” dated October 25, 2022.

Scope of the Order

The products covered by the Order are certain paper clips. For a complete description of the scope of the Order, see the Issues and Decision Memorandum.⁷

⁷ See Memorandum, “Issues and Decision Memorandum for the Final Results of the Expedited Sunset Review of the Antidumping Duty Order on Paper Clips from the People's Republic of China,” dated concurrently with, and hereby adopted by, this notice (Issues and Decision Memorandum).

Analysis of Comments Received

All issues raised in this sunset review are addressed in the Issues and Decision Memorandum, including the likelihood of continuation or recurrence of dumping and the magnitude of the margins likely to prevail if the Order were revoked.⁸ A list of topics discussed in the Issues and Decision Memorandum is included as an appendix to this notice. The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁸ Id.

Final Results of Sunset Review

Pursuant to sections 751(c)(1) and 752(c)(1) and (3) of the Act, Commerce determines that revocation of the Order would be likely to lead to continuation or recurrence of dumping, and that the magnitude of the dumping margins likely to prevail would be weighted-average margins up to 126.94 percent.

Administrative Protective Order (APO)

This notice serves as the only reminder to parties subject to an APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing this notice in accordance with sections 751(c), 752(c), and 777(i)(1) of the Act, and 19 CFR 351.221(c)(5)(ii).

Dated: December 20, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2022-28170 Filed 12-27-22; 8:45 am]

BILLING CODE 3510-DS-P